DEPARTMENT OF ENERGY

Federal Energy Regulatory Commission

[Project No. 2077-119]

Great River Hydro, LLC; Notice of Availability of Environmental Assessment

In accordance with the National Environmental Policy Act of 1969 and the Federal Energy Regulatory Commission's (Commission or FERC) regulations, 18 Code of Federal Regulations (CFR) Part 380, Commission staff reviewed Great River Hydro, LLC's application for an amendment to the license of the Fifteen Mile Falls Hydroelectric Project No. 2077 and have prepared an Environmental Assessment (EA) for the proposed amendment. The licensee proposes to construct and operate an additional 4.7-megawatt unit (Moore Unit 5) at the project's Moore Development. The Fifteen Mile Falls project consists of three developments located on the Connecticut River, in Grafton and Coos counties, New Hampshire, and Caledonia and Essex counties, Vermont.

The EA contains Commission staff's analysis of the potential environmental effects of the proposed amendment to the license, and concludes that the proposed amendment, with appropriate environmental protective measures, would not constitute a major federal action that would significantly affect the quality of the human environment.

A copy of the EA may be viewed on the Commission's website at http://www.ferc.gov using the “elibrary” link. Enter the docket number (P-2077) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

For further information, contact Marybeth Gay at 202-502-6125 or Marybeth.Gay@ferc.gov.

Dated: January 28, 2022.
Kimberly D. Bose,
Secretary.

[FR Doc. 2022-02217 Filed 2-2-22; 8:45 am]

BILLING CODE 6717-01-P